DEPARTMENT OF THE INTERIOR

National Park Service

[NPS-WASO-NAGPRA-NPS0033922; PPWOCRADN0-PCU00RP14.R50000]

Notice of Intent To Repatriate Cultural Items: Gilcrease Museum, Tulsa, OK

AGENCY: National Park Service, Interior.

ACTION: Notice.

SUMMARY: The Gilcrease Museum, in consultation with the appropriate Indian Tribes or Native Hawaiian organizations, has determined that the cultural item listed in this notice meets the definition of an object of cultural patrimony. Lineal descendants or representatives of any Indian Tribe or Native Hawaiian organization not identified in this notice that wish to claim this cultural item should submit a written request to the Gilcrease Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Gilcrease Museum at the address in this notice by June 17, 2022.

FOR FURTHER INFORMATION CONTACT: Laura Bryant, Gilcrease Museum, 800 S Tucker Drive, Tulsa, OK 74104, telephone (918) 596-2747, email laura-bryant@utulsa.edu.

SUPPLEMENTARY INFORMATION: Notice is here given in accordance with the Native American Graves Protection and Repatriation Act (NAGPRA), 25 U.S.C. 3005, of the intent to repatriate a cultural item under the control of the Gilcrease Museum, Tulsa, OK, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1958, one cultural item was removed from McAlester, OK. In 1958, Thomas Gilcrease acquired the item from Louie LeFlore, great-granddaughter of Chief Greenwood LeFlore, whose family had held it since the 1830 Treaty of Dancing Rabbit Creek. In 1963-1964, Gilcrease transferred his collection to the City of Tulsa, including this item. The one object of cultural patrimony is a limestone figural pipe.

This pipe was used in a traditional ceremony as a sign of peace at one of the most defining moments in Choctaw History, the signing of the Dancing Rabbit Creek Treaty. That Treaty ushered in the removal of the Choctaw people from their aboriginal land over a 70-year period. The pipe has ongoing historical importance for the creation of The Choctaw Nation in Oklahoma. While it may have been in the stewardship of one family, it is communally owned by The Choctaw Nation of Oklahoma.

Determinations Made by the Gilcrease Museum

Officials of the Gilcrease Museum have determined that:

• Pursuant to 25 U.S.C. 3001(3)(D), the one cultural item described above have ongoing historical, traditional, or cultural importance central to the Native American group or culture itself, rather than property owned by an individual.

• Pursuant to 25 U.S.C. 3001(2), there is a relationship of shared group identity that can be reasonably traced between the object of cultural patrimony and The Choctaw Nation of Oklahoma.

Additional Requestors and Disposition

Lineal descendants or representatives of any Indian Tribe or Native Hawaiian organization not identified in this notice that wish to claim this cultural item should submit a written request with information in support of the claim to Laura Bryant, Gilcrease Museum, 800 S Tucker Drive, Tulsa, OK 74104, telephone (918) 596-2747, email laura-bryant@utulsa.edu, by June 17, 2022. After that date, if no additional claimants have come forward, transfer of control of the object of cultural patrimony to The Choctaw Nation of Oklahoma may proceed.

The Gilcrease Museum is responsible for notifying The Choctaw Nation of Oklahoma that this notice has been published.

Dated: May 10, 2022.
Melanie O'Brien,
Manager, National NAGPRA Program.

[FR Doc. 2022-10647 Filed 5-17-22; 8:45 am]

BILLING CODE 4312-52-P